DEPARTMENT OF COMMERCE

International Trade Administration

[A-821-801]

Solid Urea From Russia: Final Results of Antidumping Duty Administrative and New Shipper Reviews; 2014-2015

AGENCY: Enforcement and Compliance, International Trade Administration, Department of Commerce.

SUMMARY: On August 12, 2016, the Department of Commerce (the Department) published the preliminary results of the administrative review and new shipper review of the antidumping duty order on solid urea from Russia. The period of review (POR) is July 1, 2014, through June 30, 2015. For the final results of these reviews, we continue to find that subject merchandise has not been sold at less than normal value.

DATES: Effective November 18, 2016.

FOR FURTHER INFORMATION CONTACT: Michael A. Romani or Andre Gziryan, AD/CVD Operations, Office I, Enforcement and Compliance, International Trade Administration, U.S. Department of Commerce, 1401 Constitution Avenue NW., Washington, DC 20230; telephone: (202) 482-0198, and (202) 482-2201, respectively.

SUPPLEMENTARY INFORMATION:

Background

On August 12, 2016, the Department published the Preliminary Results of the administrative review and new shipper review of the antidumping duty order on solid urea from Russia.¹ The administrative review covers MCC EuroChem; the new shipper review covers Joint Stock Company PhosAgro-Cherepovets (PhosAgro). The Department gave interested parties an opportunity to comment on the Preliminary Results. We received no comments. The Department conducted these reviews in accordance with section 751(a)(2) of the Tariff Act of 1930, as amended (the Act).

¹ See Solid Urea from the Russian Federation: Preliminary Results of Antidumping Duty Administrative and New Shipper Reviews and Rescission of Administrative Review, in Part; 2014-2015, 81 FR 53414 (August 12, 2016) (Preliminary Results).

Scope of the Order

The merchandise subject to the order is solid urea, a high-nitrogen content fertilizer which is produced by reacting ammonia with carbon dioxide. The product is currently classified under the Harmonized Tariff Schedules of the United States (HTSUS) item number 3102.10.0010. Previously such merchandise was classified under item number 480.3000 and 3102.10.0000 of the HTSUS. Although the HTSUS subheading is provided for convenience and customs purposes, the written description of the merchandise subject to the order is dispositive.

Final Results of the Administrative Review

The Department made no changes to its calculations announced in the Preliminary Results. As a result of this administrative review, we determine that an estimated weighted-average dumping margin of 0.00 percent exists for MCC EuroChem for the period July 1, 2014, through June 30, 2015.

Final Results of the New Shipper Review

The Department made no changes to its calculations announced in the Preliminary Results. As a result of this new shipper review, we determine that an estimated weighted-average dumping margin of 0.00 percent exists for merchandise produced and exported by PhosAgro for the period July 1, 2014, through June 30, 2015.

Assessment

In accordance with 19 CFR 351.212 and the Final Modification,² the Department will instruct U.S. Customs and Border Protection (CBP) to liquidate all appropriate entries for MCC EuroChem and PhosAgro without regard to antidumping duties.

² See Antidumping Proceedings: Calculation of the Weighted-Average Dumping Margin and Assessment Rate in Certain Antidumping Duty Proceedings; Final Modification, 77 FR 8101, 8102 (February 14, 2012) (Final Modification).

For entries of subject merchandise during the period of review produced by MCC EuroChem and PhosAgro for which they did not know their merchandise was destined for the United States, we will instruct CBP to liquidate unreviewed entries at the all-others rate if there is no rate for the intermediate company(ies) involved in the transaction.³

³ See Antidumping and Countervailing Duty Proceedings: Assessment of Antidumping Duties, 68 FR 23954 (May 6, 2003).

We intend to issue instructions to CBP 15 days after publication of the final results of this review.

Cash Deposit Requirements

The following cash deposit requirements will be effective upon publication of the notice of final results of the administrative and new shipper reviews for all shipments of solid urea from Russia entered, or withdrawn from warehouse, for consumption on or after the date of publication as provided by section 751(a)(2) of the Act: (1) The cash deposit rate with respect to the administrative review respondent, MCC EuroChem, will be 0.00 percent, the weighted average dumping margin established in the final results of the administrative review; (2) for merchandise exported by manufacturers or exporters not covered in this administrative review but covered in a prior segment of the proceeding, the cash deposit rate will continue to be the company-specific rate published for the most recently completed segment of this proceeding in which that manufacturer or exporter participated; (3) if the exporter is not a firm covered in this administrative review, a prior review, or the original investigation, but the manufacturer is, the cash deposit rate will be the rate established for the most recently completed segment of this proceeding for the manufacturer of subject merchandise; and (4) the cash deposit rate for all other manufacturers or exporters will continue to be 64.93 percent, the all-others rate established in the original less-than-fair-value investigation.⁴

⁴ See Urea From the Union of Soviet Socialist Republics; Final Determination of Sales at Less Than Fair Value, 52 FR 19557 (May 26, 1987). Also note that following the break-up of the Soviet Union, the antidumping duty order on solid urea from the Soviet Union was transferred to the individual members of the Commonwealth of Independent States. See Solid Urea From the Union of Soviet Socialist Republics; Transfer of the Antidumping Order on Solid Urea From the Union of Soviet Socialist Republics to the Commonwealth of Independent States and the Baltic States and Opportunity to Comment, 57 FR 28828 (June 29, 1992).

With respect to PhosAgro, the new shipper respondent, the Department established a combination cash deposit rate for this company, consistent with its practice, as follows: (1) For subject merchandise produced and exported by PhosAgro, the cash deposit rate will be 0.00 percent; (2) for subject merchandise exported by PhosAgro, but not produced by PhosAgro, the cash deposit rate will be the rate for the all-others established in the less-than-fair-value investigation; and (3) for subject merchandise produced by PhosAgro but not exported by PhosAgro, the cash deposit rate will be the rate applicable to the exporter.

These cash deposit requirements, when imposed, shall remain in effect until further notice.

Notification to Importers

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Notification Regarding Administrative Protective Orders

This notice also serves as a reminder to parties subject to administrative protective order (APO) of their responsibility concerning the destruction of proprietary information disclosed under APO in accordance with 19 CFR 351.305(a)(3). Timely written notification of the return or destruction of APO materials or conversion to judicial protective order is hereby requested. Failure to comply with the regulations and terms of an APO is a sanctionable violation.

We are issuing and publishing these results of administrative and new shipper reviews in accordance with sections 751(a)(1) 751(a)(2)(B)(iii), 751(a)(3)and 777(i)(1) of the Act and 19 CFR 351.213(h), 351.214 and 351.221(b)(5).

Dated: November 14, 2016.
Paul Piquado,
Assistant Secretary for Enforcement and Compliance.

[FR Doc. 2016-27819 Filed 11-17-16; 8:45 am]

BILLING CODE 3510-DS-P